DEPARTMENT OF HOUSING AND URBAN DEVELOPMENT

[Docket No. FR-5318-FA-01]

Announcement of Funding Awards for the Indian Community Development Block Grant Recovery Act Program

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the American Recovery and Reinvestment Act of 2009 (“Recovery Act”) Notice of Funding Availability (NOFA) for the Indian Community Development Block Grant (ICDBG) Program. This announcement contains the consolidated names and addresses of the award recipients under the ICDBG Recovery Act Program.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION:

This program provides grants to Indian tribes and Alaska Native Villages to develop viable Indian and Alaska Native communities, including the creation of decent housing, suitable living environments, and economic opportunities primarily for persons with low and moderate incomes as defined in 24 CFR 1003.4.

The awards announced in this Notice were selected for funding in a competition announced in a NOFA posted on the Department's Recovery Act Web site on May 27, 2009 (http://www.hud.gov/recovery). Applications were scored and selected for funding based on the selection criteria in that notice and Area ONAP geographic jurisdictional competitions.

The amount appropriated in the Recovery Act to fund the ICDBG was $10,000,000. The allocations contained in the NOFA for the Area ONAP geographic jurisdictions were adjusted to meet Area Office needs as allowed for in the NOFA. The final adjusted allocations are as follows:

Eastern/Woodlands | $1,480,885
Southern Plains | 1,738,957
Northern Plains | 1,612,431
Southwest | 2,635,925
Northwest | 1,200,000
Alaska | 1,331,802
Total | $10,000,000

In accordance with Section 102 (a)(4)(C) of the Department of Housing and Urban Development Reform Act of 1989 (103 Stat. 1987, 42 U.S.C. 3545), the Department is publishing the names, addresses, and amounts of the 19 awards made under the regional competitions in Appendix A to this document.

Dated: October 29, 2009.
Sandra B. Henriquez,
Assistant Secretary for Public and Indian Housing.

APPENDIX A

Recovery Act Indian Community Development Block Grant Awards
Name of applicant | Amount funded | Activity funded | Project description
Alaska Region
Akiachak Native Community, George Peter, President, P.O. Box 70, Akiachak, AK 99551, (907) 825-4626 | $299,215 | Public Facility Infrastructure | Construct 1,025 feet of access road to Aanaq Subdivision.
Chilkoot Indian Association, Gregory Stuckey, Tribal Administrator, P.O. Box 490, Haines, AK 99827, (907) 766-2323 | 432,587 | Housing Rehabilitation | Inspection and rehabilitation of 20 homes.
Yakutat Tlingit Tribe, Victoria Demmert, President, P.O. Box 418, Yakutat, AK 99689, (907) 784-3238 | 600,000 | Public Facility | Construction of Community Center/Facility.
Total for Alaska Region | 1,331,802 |  |
Eastern Woodlands Region
Hannahville Indian Community, Kenneth Meshigaud, Tribal Chairperson, N14911 Hannahville B1 Road, Wilson, MI 49894, (906) 466-2932 | $434,456 | Public Facilities Infrastructure | Deer Ridge Infrastructure & Utilities.
Keweenaw Bay Indian Community, Warren Swartz, Jr., President, 16429 Beartown Road, Baraga, MI 49908, (906) 353-6623 | 600,000 | Public Facility Community Center | Early Childhood Education Center.
White Earth Band Reservation Tribal Council, Michael Triplett, Planner, 26246 Crane Road, White Earth, MN 56591, (218) 983-32485 | 446,429 | Public Facility | White Earth Rediscovery Replacement Center.
Total for Eastern Woodlands Region | 1,480,885 |  |
Northern Plains Region
Confederated Salish and Kootenai Tribes, James Steele, Jr., Tribal Chairman, P.O. Box 278, Pablo, MT 59855, (406) 675-2700 | $412,431 | Public Facility Infrastructure | Install 288 water meters.
Northern Cheyenne Tribal Housing Authority, Lafe Jaugen, Executive Director, P.O. Box 327, Lame Deer, MT 59043, (406) 477-6419 | 600,000 | Housing Rehabilitation | Rehabilitate 20 units.
Utah Paiute Housing Authority, Jessie Laggis, Executive Director, 665 North, 100 East, Cedar City, UT 84721, (435) 586-1122 | 600,000 | Housing Rehabilitation | Rehabilitate 18 units.
Total for Northern Plains Region | 1,612,431 |  |
Northwest Region
Confederated Tribes of the Grand Ronde Community of Oregon, Cheryle Kennedy, Tribal Chairwoman, 9615 Grand Ronde Road, Grand Ronde, OR 97347, (503) 879-2250 | $600,000 | Public Facilities and Improvements | (1) Design and construction of a 1,900 sq. ft. addition to the Tribe's Health and Wellness Center. (2) Remodel the front desk and lab spaces of the existing Dental Clinic.
Quileute Housing Authority, Anna Parris, Executive Director, PO Box 159, LaPush, WA 98350, (360) 374-9719 | 600,000 | Housing Construction | Construct five accessible 2-bedroom homes.
Total for Northwest Region | 1,200,000 |  |
Southern Plains Region
Ottawa Tribe of Oklahoma, Margie Ross, Tribal Administrator, 13 South 69A, Miami, OK 74354, (918) 540-1536 | $600,000 | Housing Rehabilitation | Rehabilitate 17-25 low- and moderate-income, single-family, owner-occupied homes with energy efficient products.
Pawnee Nation of Oklahoma, George E. Howell, President, Pawnee Business Council, P.O. Box 470, 881 Little Dee Drive, Pawnee, OK 74058, (918) 762-3621 | 600,000 | Public Facilities & Improvement | Access improvements to the current facility used by the elderly, handicapped and low- to moderate-income families who receive food through the Food Distribution Center. Improvements will include energy efficient technologies.
Seneca-Cayuga Tribe of Oklahoma, LeRoy Howard, Chief, R2301 E. Steve Owens Blvd., Miami, OK 74355, (918) 542-6609 | 538,957 | Public Facilities & Improvement | Establishment of an auxiliary power source for Tribal Water/Wastewater Systems & Emergency Response Facilities.
Total for Southern Plains Region | 1,738,957 |  |
Southwest Region
Bear River Band of Rohnerville Rancheria, Leonard Bowman, Tribal Chairperson, 27 Bear River Drive, Loleta, CA 95551, (707) 733-1900 | $600,000 | Housing Construction | Construct three 3-bedroom homeownership units that include accessible features for disabled persons.
Laguna Housing Development & Management Enterprise, William Sommers, Executive Director, P.O. Box 178, Laguna, NM 87026, (505) 552-6430 | 600,000 | Housing Rehabilitation | Rehabilitate 15 homeownership units for elderly/disabled persons.
Los Coyotes Band of Cahuilla and Cupeno Indians, Diane McHenry, Grant Writer, P.O. Box 189, Warner Springs, Ca 92806, (760) 432-666 | 235,925 | Housing Rehabilitation | Rehabilitate 13 homes for low- and moderate-income tribal members.
Ohkay Owingeh Housing Authority, Tomasita Duran, Executive Director, P.O. Box 1059, Ohkay Owingeh, NM 87566, (505) 852-0189 | 600,000 | Housing Rehabilitation | Rehabilitate 14 homes that are occupied by low- and moderate-income families located outside of the Pueblo's historic area.
Quechan Tribally Designated Housing Entity, Robert Letendre, Executive Director, 1860 West Sapphire Lane, Winterhaven CA 92283, (760) 572-0243 | 600,000 | Housing Rehabilitation | Rehabilitate 10 homeownership housing units in an old subdivision.
Total for Southwest Region | 2,635,925 |  |
Grand total | 10,000,000 |  |

[FR Doc. E9-27341 Filed 11-10-09; 8:45 am]

BILLING CODE 4210-67-P